DEPARTMENT OF HOMELAND SECURITY

Federal Emergency Management Agency

[Docket ID FEMA-2010-0004]

National Disaster Recovery Framework (NDRF)

AGENCY: Federal Emergency Management Agency, DHS.

ACTION: Notice of availability.

SUMMARY: This document provides notice of the availability of the final National Disaster Recovery Framework (NDRF). The NDRF is intended to work in concert with the National Response Framework (NRF) to provide organizing constructs and principles solely focused on disaster recovery. Recognizing the continuum between preparedness, response, recovery, and mitigation, the NDRF transitions with and continues beyond the scope of the National Response Framework.

DATES: This NDRF is effective September 23, 2011.

ADDRESSES: This final NDRF is available online at http://www.regulations.gov and on FEMA's Web site at http://www.fema.gov. The proposed and final NDRF, all related Federal Register Notices, and all public comments received during the comment period are available at http://www.regulations.gov under docket ID FEMA-2010-0004. You may also view a hard copy of the final NDRF at the Office of Chief Counsel, Federal Emergency Management Agency, Room 835, 500 C Street SW., Washington, DC 20472.

FOR FURTHER INFORMATION CONTACT: Gerilee Bennett, National Planning Branch Chief, Federal Emergency Management Agency, 500 C Street SW., Washington, DC 20472, (202) 646-4173.

SUPPLEMENTARY INFORMATION The NDRF addresses the short, intermediate, and long-term challenges of managing disaster recovery. Like the NRF, the NDRF is intended to address all hazards events, whether natural or manmade, and provide constructs that are scalable, adaptable, and responsive to the changing needs of different disasters. In recognizing the continuum between preparedness, response, recovery, and mitigation, the NDRF is intended to overlap and continue beyond the scope of the NRF.

The NDRF provides recovery concepts and principles important to all disaster recovery stakeholders. It provides guidance to stakeholders for engaging in pre-disaster recovery planning and other recovery preparedness and resiliency building efforts; clarifies roles for local, State, Tribal and Federal governments, private non-profit and private sector organizations; provides guidance for facilitating post-disaster recovery planning to expedite long-term disaster recovery; and provides assistance to stakeholders in identifying recovery needs beyond replacement or return to pre-disaster condition. The document also provides guidance that impacted communities may use to develop recovery priorities, and measure recovery progress and outcomes against their agreed-upon objectives. It also provides guidance for both government and non-governmental organizations providing recovery assistance to track progress, ensure accountability, and make adjustments to ongoing assistance. The NDRF lays out a systematic approach to disaster recovery, applicable to all levels of government and sectors of communities with recovery responsibilities.

On February 10, 2010, the Long Term Disaster Recovery Working Group published a draft of the NDRF in the Federal Register on February 10, 2010 (75 FR6681). In response to this posting, we received 139 comments. These comments helped to clarify and strengthen key NDRF concepts including the role of private sector and nongovernmental organizations in recovery, coordination with State and local recovery partners, and the central role leadership plays in successful recovery efforts.

The NDRF does not have the force or effect of law.

Authority: 6 U.S.C. 771; 42 U.S.C. 5121-5207.

Dated: October 26, 2011.
W. Craig Fugate,
Administrator, Federal Emergency Management Agency.

[FR Doc. 2011-28970 Filed 11-8-11; 8:45 am]

BILLING CODE 9111-23-P